ELECTION ASSISTANCE COMMISSION

Proposed Notice and Comment Policy Version 2.0

AGENCY: U.S. Election Assistance Commission.

ACTION: Notice and request for public comment on Proposed Notice and Comment Policy 2.0.

SUMMARY: The U.S. Election Assistance Commission (EAC) seeks public comment on the Proposed Notice and Comment Policy 2.0. EAC's current Notice and Comment Policy is to provide effective notice for a period of public comment on all policies being considered for adoption by the EAC, that are not subject to notice and comment under any Federal statute. The policy requires action within specified time periods to permit as much public notice as possible. Because of the firm deadlines, the current policy limits EAC's ability to address the rare situations that require swift action. The proposed policy amends the Notice and Comment policy to provide for unforeseeable circumstances that may require deviation from the default timelines indicated.

DATES: Written comments must be submitted on or before 4 p.m. EDT on June 1, 2010.

Comments: Public comments are invited on the information contained in the policy. Comments on the proposed policy should be submitted electronically to HAVAcomments@eac.gov. Written comments on the proposed policy can also be sent to the U.S. Election Assistance Commission, 1201 New York Avenue, NW., Suite 300, Washington, DC 20005, ATTN: Proposed Notice and Comment Policy.

Obtaining a Copy of the Policy: To obtain a free copy of the policy: (1) Access the EAC Web site at http://www.eac.gov; (2) write to the EAC (including your address and phone number) at U.S. Election Assistance Commission, 1201 New York Avenue, NW., Suite 300, Washington, DC 20005, ATTN: Proposed Notice and Comment Policy.

FOR FURTHER INFORMATION CONTACT: Andrew Guggenheim or Tamar Nedzar, Election Assistance Commission, 1201 New York Avenue, NW., Suite 300, Washington, DC 20005; Telephone: 202-566-3100.

Donetta L. Davidson,
Chair, U.S. Election Assistance Commission.

[FR Doc. 2010-9914 Filed 4-28-10; 8:45 am]

BILLING CODE 6820-KF-P